DEPARTMENT OF ENERGY

Federal Energy Regulatory Commission

[Project Nos. 2310-240, 14530-002, 14531-001]

Pacific Gas and Electric Company; Notice of Petition for Declaratory Order

Take notice that on April 2, 2021, pursuant to Rule 207 of the Federal Energy Regulatory Commission's Rules of Practice and Procedure, 18 CFR 385.207 (2020), Pacific Gas and Electric Company (PG&E), filed a petition for declaratory order (Petition) requesting that the Commission declare that the California State Water Resources Control Board has waived its authority to issue a certificate for the Upper Drum-Spaulding Hydroelectric Project No. 2310, Deer Creek Hydroelectric Project No. 14350, and Lower Drum Hydroelectric Project No. 14531 under Section 401 of the Clean Water Act, 33 U.S.C 1341(a)(1), as more fully explained in the Petition.

Any person wishing to comment on PG&E's petition may do so.¹ The deadline for filing comments is 30 days from issuance of this notice. The Commission encourages electronic submission of comments in lieu of paper using the “eFiling” link at http://www.ferc.gov. Persons unable to file electronically should send comments to the following address: Federal Energy Regulatory Commission, 888 First Street NE, Washington, DC 20426. Hand delivered submissions in docketed proceedings should be delivered to Health and Human Services, 12225 Wilkins Avenue, Rockville, Maryland 20852. Be sure to reference the project docket numbers (P-2310-240, P-14530-002, and P-14531-001) with your submission.

¹ PG&E's request is part of the licensing proceedings in Project Nos. 2310-240, 14530-000, and 14531-000. Thus, any person that intervened in any of the licensing proceedings is already a party. The filing of the petition in this case does not trigger a new opportunity to intervene.

In addition to publishing the full text of this document in the Federal Register, the Commission provides all interested persons an opportunity to view/and or print the contents of this document via the internet through the Commission's Home Page (http://www.ferc.gov) using the “eLibrary” link. Enter the docket number excluding the last three digits in the docket field to access the document. At this time, the Commission has suspended access to Commission's Public Reference Room, due to the proclamation declaring a National Emergency concerning the Novel Coronavirus Disease (COVID-19), issued by the President on March 13, 2020. For assistance, with any FERC Online service, please email FERCOnlineSupport@ferc.gov or call (886) 208-3676 (toll free). For TYY, call (202) 502-8659.

Comment Date: 5:00 p.m. Eastern Time on May 10, 2021

Dated: April 9, 2021.
Kimberly D. Bose,
Secretary.

[FR Doc. 2021-07862 Filed 4-15-21; 8:45 am]

BILLING CODE 6717-01-P